DEPARTMENT OF ENERGY

Federal Energy Regulatory Commission

[Docket No. CP16-28-000]

National Fuel Gas Supply Corporation; Notice of Schedule for Environmental Review of the Proposed Line QP, Line Q, and Queen Storage Project

On December 3, 2015, National Fuel Gas Supply Corporation (National Fuel) filed an application in Docket No. CP16-28-000 requesting a Certificate of Public Convenience and Necessity pursuant to Sections 7(b) and 7(c) of the Natural Gas Act to abandon, construct and operate certain natural gas pipeline facilities. The proposed project is known as the Line QP, Line Q, and Queen Storage Project (Project) located in Forest and Warren Counties, Pennsylvania.

On December 16, 2015, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA: April 13, 2017

90-day Federal Authorization Decision Deadline: July 12, 2017

If a schedule change becomes necessary, additional notice will be provided so that the relevant agencies are kept informed of the Project's progress.

Project Description

National Fuel seeks authorization to abandon by sale all of its facilities comprising its Queen Storage Field, including the base gas in the field, its Queen Compressor Station, and a segment of its Line Q, approximately 5.5 miles in length, beginning at the Queen Compressor Station and traversing northwest to a location just south of the Allegheny River (the “Line Q Segment”). Also, National Fuel seeks authorization to construct and operate approximately 5 miles of new 4-inch-diameter plastic pipeline (“Line QP”) beginning at a point just north of the Allegheny River, and traversing southeast along or adjacent to the existing Line Q right-of-way, to a point approximately 2,000 feet west of the Queen Compressor Station.

Background

On January 20, 2016, the Commission issued a Notice of Intent to Prepare an Environmental Assessment for the Proposed Line QP, Line Q, and Queen Storage Project and Request for Comments on Environmental Issues (NOI). The NOI was sent to affected landowners; federal, state, and local government agencies; elected officials; environmental and public interest groups; Native American tribes; other interested parties; and local libraries and newspapers. In response to the NOI, the Commission received comments from the United States Army Corps of Engineers, Pittsburgh District (USACE). The USACE stated concern regarding the proposed Project's impact on federally listed species within the Wild and Scenic River portion of the Allegheny River. The U.S. Forest Service, Allegheny National Forest office; USACE; and the Pennsylvania Fish and Boat Commission are cooperating agencies in the preparation of the EA.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC Web site (www.ferc.gov). Using the “eLibrary” link, select “General Search” from the eLibrary menu, enter the selected date range and “Docket Number” excluding the last three digits (i.e., CP16-28), and follow the instructions. For assistance with access to eLibrary, the helpline can be reached at (866) 208-3676, TTY (202) 502-8659, or at FERCOnlineSupport@ferc.gov. The eLibrary link on the FERC Web site also provides access to the texts of formal documents issued by the Commission, such as orders, notices, and rule makings.

Dated: January 10, 2017.
Kimberly D. Bose,
Secretary.

[FR Doc. 2017-00927 Filed 1-17-17; 8:45 am]

BILLING CODE 6717-01-P